DEPARTMENT OF ENERGY

Federal Energy Regulatory Commission

[Docket No. OR03-5-000]

Chevron Products Company, Complainant, v. SFPP, L.P., Respondent; Notice of Complaint

July 3, 2003.

Take notice that on June 30, 2003, Chevron Products Company (Complainant) filed a complaint alleging that there are reasonable grounds to believe that the rates of SFPP, L.P., (SFPP) subject to the jurisdiction of the Federal Energy Regulatory Commission (Commission) are not just and reasonable.

According to Complainant, the overcharges are at least 28% percent in excess of the claimed just and reasonable return claimed by SFPP in its cost of service.

Complainant alleges that it is aggrieved and damaged by the unlawful acts of SFPP and seeks relief in the form of reduced rates in the future and reparations for past and current overcharges for transportation, with interest.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date below. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866)208-3676, or for TTY, contact (202)502-8659. The answer to the complaint, comments, protests and interventions may be filed electronically via the Internet in lieu of paper; see 18 CFR 385.2001(a)(1)(iii) and the instructions on the Commission's Web site under the “e-Filing” link. The Commission strongly encourages electronic filings.

Comment Date: July 14, 2003.

Linda Mitry,
Acting Secretary.

[FR Doc. 03-17490 Filed 7-9-03; 8:45 am]

BILLING CODE 6717-01-P